DEPARTMENT OF ENERGY

Federal Energy Regulatory Commission

[Docket No. CP22-468-000]

Trailblazer Pipeline Company, LLC; Express Pipeline, LLC; Notice of Schedule for the Preparation of an Environmental Assessment for the Trailblazer Conversion Project

On May 27, 2022, Trailblazer Pipeline Company, LLC (TPC) and Rockies Express Pipeline, LLC (REX) filed an application in Docket No. CP22-468-000 requesting a Certificate of Public Convenience and Necessity pursuant to Sections 7(b) and (c) of the Natural Gas Act to construct, operate, and abandon certain natural gas pipeline facilities. The proposed project is known as the Trailblazer Conversion Project (Project) and would provide continuing service to TPC's existing natural gas firm transportation customers using underutilized jurisdictional capacity on REX pipeline facilities while making TPC's pipeline facilities available, following their proposed abandonment, in anticipation of future non-jurisdictional use to transport carbon dioxide (CO2) for final sequestration. The Project would not involve an increase in natural gas transportation capacity.

On June 9, 2022, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—March 31, 2023

90-day Federal Authorization Decision Deadline ²—June 29, 2023

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

TPC is proposing to abandon certain natural gas pipeline facilities and associated compressor stations. REX is proposing to provide capacity on the existing REX Pipeline to TPC and construct, install, own, operate, and maintain certain facilities necessary for TPC to continue service to its existing customers. The Project would consist of the abandonment in-place of 392 miles of 36-inch-diameter TPC pipeline facilities and 3 TPC mainline compressor stations located in Colorado and Nebraska; construction of a new 18.8-mile-long, 20-inch-diameter lateral pipeline (REX Lateral to TPC Adams) located in Franklin, Webster, and Adams counties, Nebraska; construction of a new 22.2-mile-long, 36-inch-diameter lateral (REX Lateral to TPC East) located in Jefferson and Saline counties, Nebraska; construction of five new interconnect booster stations at existing TPC pipeline facilities in Nebraska and Colorado; and installation and modifications of meter stations and station piping in Nebraska.

Background

On July 11, 2022, the Commission issued a Notice of Scoping Period Requesting Comments on Environmental Issues for the Proposed Trailblazer Conversion Project (Notice of Scoping). The Notice of Scoping was sent to affected landowners; federal, state, and local government agencies; elected officials; environmental and public interest groups; Native American tribes; other interested parties; and local libraries and newspapers. In response to the Notice of Scoping, the Commission received multiple comments. Several were supportive of the Project. Others requested that the EA discuss and provide appropriate details regarding the Project description, purpose and need, alternatives, and resource impacts. The U.S. Environmental Protection Agency (EPA) recommends FERC include the proposed capture, transport, and sequestration of CO2 as a connected action under NEPA. Additionally, EPA recommends FERC coordinate closely with the U.S. Army Corps of Engineers regarding regulatory changes associated with wetland permits, address potential air emission impacts under the general conformity rule, address potential spread of invasive species, and address impacts on environmental justice communities. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP22-468), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: September 29, 2022.
Kimberly D. Bose,
Secretary.

[FR Doc. 2022-21637 Filed 10-4-22; 8:45 am]

BILLING CODE 6717-01-P